DEPARTMENT OF TRANSPORTATION

National Highway Traffic Safety Administration

[U.S. DOT Docket Number NHTSA-02-14038]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before August 26, 2003.

ADDRESSES: Comments must refer to the docket notice number cited at the beginning of this notice and be submitted to Docket Management, Room PL-401, 400 Seventh Street, SW., Washington, DC 20590. It is requested, but not required, that 2 copies of the comment be provided. The Docket Section is open on weekdays from 10 a.m. to 5 p.m.

FOR FURTHER INFORMATION CONTACT: Complete copies of each request for collection of information may be obtained at no charge from Dr. George Mouchahoir, NHTSA 400 Seventh Street, SW., Room 5313-E, NVS-113, Washington, DC 20590. Dr. Mouchahoir's telephone number is (202) 366-4919. Please identify the relevant collection of information by referring to this Docket Number (Docket Number NHTSA-02-14038).

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information:

Title: Final rule, response to petitions for reconsideration; Phase-in reporting requirements.

OMB Control Number: None.

Affected Public: Manufacturers of passenger cars, and trucks and multipurpose passenger vehicles with a gross vehicle weight rating (GVWR) of 3,855 kilograms (8,500 pounds) or less, and of buses with a GVWR of 4,536 kilograms (10,000 pounds) or less.

Form Number: None.

Number of Respondents: From existing phase-in reporting requirements (Part 596) for this standard, we expect about 20 respondents.

Estimated Annual Burden: Since almost all of the information required is already recorded by the manufacturers as part of their production control and tracking systems, a nominal assessment of 60 total burden hours per respondent is estimated for data retrieval and report preparation. The estimated cost per hour in dollars is $35. Based on this estimate, the total annual burden for manufacturers would be: (20 respondents) × (60 total burden hours per respondent) × ($35 per hour) = $42,000.

Abstract: NHTSA issued a final rule establishing FMVSS No. 225, “Child restraint anchorage systems,” in March 1999 (64 FR 10786). A final rule, response to petitions for reconsideration is prepared to respond to remaining outstanding issues raised by petitions for reconsideration of the agency's March 1999 final rule, and of the agency's previous responses to petitions, published in August 1999 (64 FR 47566) and July 2000 (65 FR 46628). The final rule is published in today's edition of the Federal Register (RIN 2127-AH99, Docket Number NHTSA-03-15438).

The final rule resolves the issue of the appropriateness of the 15,000 N strength requirement for tether and lower anchorages (S6.3 and S8.1 of FMVSS No. 225) and the 11,000 N strength requirement for the lower anchorages only (S9.4.1(a)). Those strength requirements are, for the most part, unchanged from the March 1999 final rule. However, this final rule makes several important amendments to requirements of the standard relating to how the 15,000 and 11,000 N loads are applied and how the agency determines compliance with the requirements. Examples of these are the change from the 125 mm displacement criterion for the tether anchorage to one that determines whether the anchorage withstood the force by assessing the deformation of the structure; and the change in the load application rate for the 11,000 N load for the lower anchorages from 10 seconds to 1 second. The agency has determined that these changes may necessitate the reassessment by manufacturers of some vehicle models as to whether the vehicles comply with the amended standard. Further, some manufacturers may need more time than the period from now until August 31, 2004 to make whatever changes are needed to the structure of the vehicles to meet the new requirements. Because of this, this final rule gives vehicle manufacturers an additional year, for a few model lines, to assess whether their vehicles meet this rule's amended strength requirements and to make necessary changes to meet the requirements. Ninety (90) percent of the vehicles they manufacture on or after September 1, 2004 and before September 1, 2005 must be certified as meeting the amended strength requirements. One hundred (100) percent of the vehicles manufactured on or after September 1, 2005 must be certified as meeting the requirements. Thus, a new phase-in schedule is being established to make it easier for manufacturers to comply with the permanent requirements. The collection of information is used for recordkeeping to keep track of covered vehicles, and for reporting to the agency the covered vehicles that comply with the requirements.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: June 19, 2003.
Stephen R. Kratzke,
Associate Administrator for Rulemaking.

[FR Doc. 03-15954 Filed 6-26-03; 8:45 am]

BILLING CODE 4910-59-P